DEPARTMENT OF ENERGY

Federal Energy Regulatory Commission

[Docket No. AD10-12-011]

Increasing Market and Planning Efficiency and Enhancing Resilience Through Improved Software; Supplemental Notice of Technical Conference

As announced in the Notice of Technical Conference issued on February 14, 2020, the Federal Energy Regulatory Commission staff will convene a technical conference on June 23, 24, and 25, 2020 to discuss opportunities for increasing real-time and day-ahead market efficiency and enhancing the resilience of the bulk power system through improved software. The conference will no longer take place at Commission headquarters as stated in the February 14 Notice but instead will take place virtually via WebEx, with remote participation from both presenters and attendees. Further details on remote attendance and participation will be released prior to the conference.

Attendees must still register through the Commission's website by 5:00 p.m. EST on June 12, 2020.¹ WebEx connections may not be available to those who do not register.

¹ The attendee registration form is located at https://www.ferc.gov/whats-new/registration/real-market-6-23-20-form.asp.

The deadline for speaker nomination submissions has been extended from April 17 to May 1, 2020. Speaker nominations must still be submitted through the Commission's website.²

² The speaker nomination form is located at https://www.ferc.gov/whats-new/registration/real-market-6-23-20-speaker-form.asp.

Staff anticipates facilitating participant questions and discussions of materials presented through WebEx. Details will be released prior to the conference on how such discussions will take place.

There is an “eSubscription” link on the Commission's website that enables subscribers to receive email notification when a document is added to a subscribed docket(s). For assistance with any FERC Online service, please email FERCOnlineSupport@ferc.gov, or call (866) 208-3676 (toll free). For TTY, call (202) 502-8659.

The Commission will accept comments following the conference, with a deadline of July 31, 2020. The technical conference will not be transcribed.

Commission conferences are accessible under section 508 of the Rehabilitation Act of 1973. For accessibility accommodations, please send an email to accessibility@ferc.gov or call toll free 1-866-208-3372 (voice) or 202-502-8659 (TTY); or send a fax to 202-208-2106 with the required accommodations.

For further information about this conference, please contact: Sarah McKinley (Logistical Information) Office of External Affairs (202) 502-8004 Sarah.McKinley@ferc.gov.

Alexander Smith (Technical Information) Office of Energy Policy and Innovation (202) 502-6601 Alexander.Smith@ferc.gov.

Dated: April 7, 2020.
Nathaniel J. Davis, Sr.,
Deputy Secretary.

[FR Doc. 2020-07690 Filed 4-10-20; 8:45 am]

BILLING CODE 6717-01-P